ENVIRONMENTAL PROTECTION AGENCY

[ER-FRL-6691-6]

Environmental Impacts Statements; Notice of Availability

Responsible Agency: Office of Federal Activities, General Information (202) 564-7167 or http://www.epa.gov/compliance/nepa/

Weekly receipt of Environmental Impact Statements

Filed 09/24/2007 Through 09/28/2007

Pursuant to 40 CFR 1506.9.

EIS No. 20070403, Draft Supplement, BLM, UT, Vernal Field Office Resource Management Plan, Updated Information, Managing Non-Wilderness Study Area (WSA) Lands with Wilderness Characteristics, Implementation, Vernal, UT, Comment Period Ends: 01/03/2008, Contact: Kelly Buckner 435-781-4400.

EIS No. 20070404, Draft EIS, NRC, KS, GENERIC—License Renewal of Nuclear Plants Regarding Wolf Creek Generating Station, (WCGS) Unit 1. Supplement 32 to NUREG 1437, Implementation, Coffey Country, KS, Comment Period Ends: 12/26/2007, Contact: Christian Jacobs 301-415-3874.

EIS No. 20070405, Final EIS, AFS, 00, Yellowstone and Grand Teton National Parks and the John D. Rockefeller, Jr. Memorial Parkway, Winter Use Plan, To Provide a Framework for Managing Winter Use Activities, Implementation, Fremont County, ID, Gallatin and Park Counties, MT Park and Teton Counties, WY, Wait Period Ends: 11/05/2007, Contact: Debbie VanDerPolder 307-344-2019.

EIS No. 20070406, Draft EIS, AFS, AK, Iyouktug Timber Sales, Proposes Harvesting Timber, Implementation, Hoonah Ranger District, Tongass National Forest, Hoonah, AK, Comment Period Ends: 11/19/2007, Contact: Hans von Rekowski 907-747-4217.

EIS No. 20070407, Final EIS, AFS, MT, North Bridger Allotment Management Plan Update, Proposal to Update Allotment Management Plan on 11 Livestock Grazing Allotments, Bozeman Ranger District, Gallatin National Forest, Gallatin County, MT, Wait Period Ends: 11/05/2007, Contact: John Councilman 406-522-2533.

EIS No. 20070408, Final EIS, AFS, ND, NE McKenzie Allotment Management Plan Revisions, Proposes to Continue Livestock Grazing on 28 Allotments, Dakota Prairie Grasslands Land and Resource Management Plan, Dakota Prairie Grasslands, McKenzie Ranger District, McKenzie County, ND, Wait Period Ends: 11/05/2007, Contact: Libby Knotts 701-842-2393.

EIS No. 20070409, Draft EIS, AFS, MT, Beartooth Ranger District Travel Management Planning, Proposing to Designate Routes for Public Motorized Use, and Change Management of Pack and Saddle Stock on Certain Trail, Beartooth Ranger District, Custer National Forest, Carbon, Stillwater, Sweet Grass, and Park Counties, MT, Comment Period Ends: 11/19/2007, Contact: Doug Epperly 406-657-6205 Ext 225.

EIS No. 20070410, Draft EIS, BLM, NV, Cortez Hills Expansion Project, Proposes to Construct and Operate a New Facilities and Expansion of the Existings Open-Pit Gold Mining and Processing Operations, Crescent Valley, Lander and Eureka Counties, NV, Comment Period Ends: 12/03/2007, Contact: Steve Drummond 775-635-4000.

EIS No. 20070411, Draft EIS, FRC, NC, Yadkin—Yadkin-Pee Dee Hydro Electric Project (Docket Nos. P-2197-073 & P-2206-030), Issuance of New Licenses for the Existing and Proposed Hydropower Projects, Yadkin—Yadkin-Pee Dee Rivers, Davidson, Davie, Montgomery, Rowan, Stanly, Anson and Richmond Counties, NC, Comment Period Ends: 12/03/2007, Contact: Andy Black 1-866-208-3372.

EIS No. 20070412, Draft EIS, TVA, TN, Ruthford-Williamson-Davidson Power Supply Improvement Project, Proposes to Construct and Operate a New 500-kilovolt (kV) Ruthford Substation , a New 27-mile 500-kV Transmission Line and Two New 9- and 15 mile 161-kV Transmission Lines, Ruthford, Williamson Counties, TN, Comment Period Ends: 11/19/2007, Contact: Anita E. Masters 423-751-8697.

Amended Notices

EIS No. 20070221, Draft EIS, AFS, MT, Butte Resource Management Plan, Implementation, Beaverhead, Broadwater, Deerlodge, Gallatin, Jefferson, Lewis and Clark, Silver Bow and Park Counties, MT, Comment Period Ends: 09/06/2007, Contact: Tim LaMarr 406-533-7645 Revision of FR Notice Published on 06/08/2007: Extending 09/06/2007 from 10/09/2007.

Dated: October 2, 2007.
Robert W. Hargrove,
Director, NEPA Compliance Division, Office of Federal Activities.

[FR Doc. E7-19720 Filed 10-4-07; 8:45 am]

BILLING CODE 6560-50-P